DEPARTMENT OF AGRICULTURE

Animal and Plant Health Inspection Service

9 CFR Part 11

[Docket No. APHIS-2022-0004]

RIN 0579-AE70

Horse Protection Amendments; Correction

AGENCY: Animal and Plant Health Inspection Service, USDA.

ACTION: Final rule; correction.

SUMMARY: This document corrects errors in amendatory instructions in the final rule entitled “Horse Protection Amendments,” which was published in the Federal Register on May 8, 2024.

DATES: The corrections in this document are effective on June 7, 2024.

FOR FURTHER INFORMATION CONTACT: Dr. Aaron Rhyner, DVM, Assistant Director, USDA-APHIS-Animal Care, 2150 Centre Ave., Building B, Mailstop 3W11, Fort Collins, CO 80526-8117; horseprotection@usda.gov; (970) 494-7484.

SUPPLEMENTARY INFORMATION: In Federal Register Doc. 2024-09469 (89 FR 39194-39251), a final rule entitled “Horse Protection Amendments”, we set an effective date of February 1, 2025, for 9 CFR part 11, except for § 11.19, which was stated to have an effective date of June 7, 2024. However, the amendatory instructions, as written, would not allow for § 11.19 to be added to the regulations on June 7, 2024. This document corrects the error.

Corrections

In FR Doc. 2024-09469, appearing at 89 FR 39194-39251 in the Federal Register on May 8, 2024, the following corrections are made:

1. On page 39244, in the second column, revise the words of issuance to read as follows:

“For the reasons discussed in the preamble, APHIS amends 9 CFR part 11 as follows:”

PART 11 [CORRECTED]

2. On page 39244, in the second column, preceding the part 11 heading, add amendatory instruction 1 for part 11 to read as follows:

“▪ 1. Effective February 1, 2025, revise part 11 to read as follows:”

§ 11.19 [Corrected]

3. On page 39251, in the third column, above the signature block, add amendatory instruction 2 for § 11.19 and the accompanying regulatory text to read as follows:

“▪ 2. Effective June 7, 2024, add § 11.19 to read as follows:

§ 11.19 Authorization and training of Horse Protection Inspectors.

APHIS will authorize HPIs after the successful completion of training by APHIS. The management of any horse show, horse exhibition, horse sale, or horse auction may appoint HPIs holding a current authorization to detect and diagnose horses that are sore or to otherwise inspect horses and any records pertaining to such horses for the purposes of determining compliance with the Act and regulations.

(a) Authorization process. All persons wishing to become HPIs must submit an application to APHIS. Guidance regarding submitting applications is located on the APHIS Horse Protection website. Applicants will be required to show that they meet the Tier 1 qualifications in paragraph (a)(1) of this section in order for the application to be evaluated. If the applicant meets the qualifications in paragraph (a)(1) of the section, the applicant will be further evaluated based on the Tier 2 qualifications in paragraph (a)(2) of this section. In order for APHIS to consider the applicant as a candidate to be an HPI, all qualifications must be met.

(1) Tier 1 qualifications. The applicant must be a veterinarian, except that veterinary technicians and persons employed by State and local government agencies to enforce laws or regulations pertaining to animal welfare may also be authorized if APHIS determines that there is an insufficient pool of veterinarians among current HPIs and applicants to be HPIs.

(2) Tier 2 qualifications. (i) The applicant must demonstrate sufficient knowledge and experience of equine husbandry and science and applicable principles of equine science, welfare, care, and health for APHIS to determine that the applicant can consistently identify equine soring and soring practices.

(ii) The applicant must not have been found to have violated any provision of the Act or the regulations in this part occurring after July 13, 1976, or have been assessed any civil penalty, or have been the subject of a disqualification order in any proceeding involving an alleged violation of the Act or regulations occurring after July 13, 1976.

(iii) The applicant must not have been disqualified by the Secretary from performing diagnosis, detection, and inspection under the Act.

(iv) The applicant must not have acted in a manner that calls into question the applicant's honesty, professional integrity, reputation, practices, and reliability relative to possible authorization as an HPI. APHIS will base this on a review of:

(A) Criminal conviction records, if any, indicating that the applicant may lack the honesty, integrity, and reliability to appropriately and effectively perform HPI duties.

(B) Official records of the person's actions while participating in Federal, State, or local veterinary programs when those actions reflect on the honesty, reputation, integrity, and reliability of the applicant.

(C) Judicial determinations in any type of litigation adversely reflecting on the honesty, reputation, integrity, and reliability of the applicant.

(D) Any other evidence reflecting on the honesty, reputation, integrity, and reliability of the applicant.

(b) Training. All applicants selected as candidates must complete a formal training program administered by APHIS prior to authorization. Continual training as APHIS determines to be necessary is a condition of maintaining authorization to inspect horses.

(c) Listing. APHIS will maintain a list of all HPIs on the APHIS Horse Protection website. The list is also available by contacting APHIS by email or U.S. mail.

Note 1 to paragraph (c): Send email to horseprotection@usda.gov, or U.S. mail to USDA/APHIS/AC, 2150 Centre Ave., Building B, Mailstop 3W11, Fort Collins, CO 80526-8117.

(d) Denial of an HPI application and disqualification of HPIs—(1) Denial. APHIS may deny an application for authorization of an HPI, or deny continuation in the program to an HPI trainee not yet authorized, for any of the reasons outlined in paragraph (a) of this section. In such instances, the applicant shall be provided written notification of the grounds for the denial. The applicant may appeal the decision, in writing, within 30 days after receiving the written denial notice. The appeal must state all of the facts and reasons that the person wants the Administrator to consider in deciding the appeal. As soon as practicable, the Administrator will grant or deny the appeal, in writing, stating the reasons for the decision.

(2) Disqualification. APHIS may permanently disqualify any HPI who fails to inspect horses in accordance with the procedures prescribed by APHIS or otherwise fails to perform duties necessary for APHIS to enforce the Act and regulations, after notice and opportunity for a hearing. Requests for hearings and the hearings themselves shall be in accordance with the Uniform Rules of Practice for the Department of Agriculture in subpart H of 7 CFR part 1.

(Approved by the Office of Management and Budget under control number 0579-0490)

Done in Washington, DC, May 31, 2024.
Jennifer Moffitt,
Under Secretary for Marketing and Regulatory Programs.

[FR Doc. 2024-12315 Filed 6-4-24; 8:45 am]

BILLING CODE 3410-34-P